DEPARTMENT OF ENERGY

Federal Energy Regulatory Commission

[Docket Nos. MG01-13-000, MG-14-000, MG01-15-000, MG01-16-000, MG01-17-000]

Algonquin Gas Transmission Co., et al.; Notice of Filing

January 4, 2001.

Take notice that on November 22, 2000, Algonquin Gas Transmission Co., Algonquin LNG, Inc., East Tennessee Natural Gas Company, Texas Eastern Transmission Co., Maritimes and Northeast Pipelines, L.L.C. filed revised standards of conduct under Nos. 497 et seq.¹ Order Nos. 566 et seq.,² and Order No. 599.³

¹ Order No. 497, 53 FR 22139 (June 14, 1988), FERC Stats. & Regs. 1986-1990 30,820 (1988); Order No. 497-A, order on rehearing, 54 FR 52781 (December 22, 1989), FERC Stats. & Regs. 1986-1990 30,868 (1989); Order No. 497-B, order extending sunset date, 55 FR 53291 (December 28, 1990), FERC Stats. & Regs. 1986-1990 30,908 (1990); Order No. 497-C, order extending sunset date, 57 FR 9 (January 2, 1992), FERC Stats. & Regs. 1991-1996 30,934 (1991), rehearing denied, 57 FR 5815 (February 18, 1992), 58 FERC 61,139 (1992); Tenneco Gas v. FERC (affirmed in part and remanded in part), 969 F.2d 1187 (D.C. Cir. 1992); Order No. 497-D, order on remand and extending sunset date, 57 FR 58978 (December 14, 1992), FERC Stats. & Regs. 1991-1996 30,958 (December 4, 1992); Order No. 497-E, order on rehearing and extending sunset date, 59 FR 243 (January 4, 1994), FERC Stats. & Regs. 1991-1996 30,987 (December 23, 1993); Order No. 497-F, order denying rehearing and granting clarification, 59 FR 15336 (April 1, 1994), 66 FERC 61,347 (March 24, 1994); and Order No. 497-G, order extending sunset date, 59 FR 32884 (June 27, 1994), FERC Stats. & Regs. 1991-1996 30,996 (June 17, 1994).

² Standards of Conduct and Reporting Requirements for Transportation and Affiliate Transactions, Order No. 566, 59 FR 32885 (June 27, 1994), FERC Stats. & Regs. 1991-1996 30,997 (June 17, 1994); Order No. 566-A, order on rehearing, 59 FR 52896 (October 20, 1994), 69 FERC 61,044 (October 14, 1994); Order No. 566-B, order on rehearing, 59 FR 65707, (December 21, 1994), 69 FERC 61,334 (December 14, 1994).

³ Reporting Interstate Natural Gas Pipeline Marketing Affiliates on the Internet, Order No. 599, 63 FR 43075 (August 12, 1998), FERC Stats. & Regs. 31,064 (1998).

Any person desiring to be heard or to protest any of the filings should file a motion to intervene or protest in each proceeding with the Federal Energy Regulatory Commission, 888 First Street, NE., Washington, DC, 20426, in accordance with Rules 211 or 214 of the Commission's Rules of Practice and Procedure (18 CFR 385.211 or 385.214). All such motions to intervene or protests should be filed on or before January 19, 2001. Protests will be considered by the Commission in determining the appropriate action to be taken but will not serve to make protestants parties to the proceeding. Any person wishing to become a party must file a motion to intervene in each proceeding. Copies of these filings are on file with the Commission and are available for public inspection. This filing may be viewed on the web at http://www.ferc.fed.us/online/rims.htm (call 202-208-2222 for assistance).

David P. Boergers,
Secretary.

[FR Doc. 01-636 Filed 1-9-01; 8:45 am]

BILLING CODE 6717-01-M